FEDERAL RESERVE SYSTEM

Change in Bank Control Notices; Acquisitions of Shares of a Bank or Bank Holding Company

The notificants listed below have applied under the Change in Bank Control Act (12 U.S.C. 1817(j)) and § 225.41 of the Board's Regulation Y (12 CFR 225.41) to acquire shares of a bank or bank holding company. The factors that are considered in acting on the notices are set forth in paragraph 7 of the Act (12 U.S.C. 1817(j)(7)).

The notices are available for immediate inspection at the Federal Reserve Bank indicated. The notices also will be available for inspection at the offices of the Board of Governors. Interested persons may express their views in writing to the Reserve Bank indicated for that notice or to the offices of the Board of Governors. Comments must be received not later than October 31, 2018.

A. Federal Reserve Bank of Kansas City (Dennis Denney, Assistant Vice President) 1 Memorial Drive, Kansas City, Missouri 64198-0001:

1. The Beaver Creek Trust—2nd Generation, Clinton, Oklahoma, and Shawn Grubb, Weatherford, Oklahoma, individually, and as Trustee; to acquire voting shares of Falcon Bancorporation, and thereby indirectly acquire First Bank and Trust of Memphis, both of Memphis, Texas.

2. The Beaver Creek Trust—2nd Generation, Clinton, Oklahoma, and Shawn Grubb, Weatherford, Oklahoma, individually, and as Trustee; to acquire voting shares of Hydro Bancshares, Inc., and thereby indirectly acquire Bank of Hydro, both of Hydro, Oklahoma.

3. The Beaver Creek Trust—2nd Generation, Clinton, Oklahoma, and Shawn Grubb, Weatherford, Oklahoma, individually, and as Trustee; to acquire voting shares of Rocky Financial Corporation, and thereby indirectly acquire Bank of Cordell, both of Cordell, Oklahoma.

Board of Governors of the Federal Reserve System, October 10, 2018.
Yao-Chin Chao,
Assistant Secretary of the Board.

[FR Doc. 2018-22403 Filed 10-12-18; 8:45 am]

BILLING CODE P